DEPARTMENT OF THE TREASURY

Office of Foreign Assets Control

Supplemental Identification Information of Twelve Individuals Designated Pursuant to Executive Order 13224

AGENCY: Office of Foreign Assets Control, Treasury.

ACTION: Notice.

SUMMARY: The Treasury Department's Office of Foreign Assets Control (“OFAC”) is publishing supplemental identification information for the names of twelve individuals whose property and interests in property are blocked pursuant to Executive Order 13224 of September 23, 2001, “Blocking Property and Prohibiting Transactions With Persons Who Commit, Threaten To Commit, or Support Terrorism.”

DATES: The publishing of updated information by the Director of OFAC of the twelve individuals identified in this notice, pursuant to Executive Order 13224, is effective on May 22, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On May 22, 2007, the Director of OFAC, in consultation with the Departments of State, Homeland Security, Justice and other relevant agencies, supplemented the identification information for twelve individuals whose property and interests in property are blocked pursuant to Executive Order 13224.

The supplemental identification information for the twelve individuals is as follows:

1. ABU HAFS THE MAURITANIAN (a.k.a. AL-SHANQITI, Khalid; a.k.a. AL-WALID, Mafouz Walad; a.k.a. AL-WALID, Mahfouz Ould); DOB 1 JAN 75.

2. ABU ZUBAYDAH (a.k.a. ABU ZUBAIDA; a.k.a. ABU ZUBEIDAH, Zeinulabideen Muhammed Husein; a.k.a. AL-WAHAB, Abd Al-Hadi; a.k.a. HUSAIN, Zain Al-Abidin Muhammad; a.k.a. HUSAYN, Zayn al-Abidin Muhammad; a.k.a. HUSSEIN, Zayn al-Abidin Muhammad; a.k.a. TARIQ); DOB 12 Mar 1971; POB Riyadh, Saudi Arabia; nationality Palestinian; Passport 484824 (Egypt) issued 18 Jan 1984.

3. AL-AQIL, Aqeel Abdulaziz Aqeeil (a.k.a. ALAQEEL, Aqeel Abdulaziz A.; a.k.a. AL-AQIL, Aqeel Abdulaziz); DOB 29 Apr 1949; POB Unaizah, Saudi Arabia; nationality Saudi Arabia; Passport C 1415363-16/2/1421H issued 21 May 2000; alt. Passport E 839024 issued 3 Jan 2004 expires 8 Nov 2008.

4. AL-BUTHE, Soliman (a.k.a. AL BUTHI, Soliman H.S.; a.k.a. AL-BATAHAI, Soliman; a.k.a. AL-BATHI, Soliman; a.k.a. AL-BUTHE, Suliman Hamd Suleiman); DOB 8 Dec 1961; POB Cairo, Egypt; nationality Saudi Arabia; Passport B049614 (Saudi Arabia); alt. Passport C536660 (Saudi Arabia) issued 5 May 2001 expires 11 Mar 2006.

5. AL-FAQIH, Saad Rashed Mohammad (a.k.a. ABU UTHMAN; a.k.a. AL FAQIH, Saad; a.k.a. AL-FAGEAH, Sa'd Rashid Muhammed; a.k.a. ALFAGIH, Saad; a.k.a. AL-FAGIH, Saad; a.k.a. AL-FAKIH, Saad; a.k.a. AL-FAQI, Sa'd; a.k.a. AL-FAQIH, Sa'ad; a.k.a. AL-FAQIH, Saad; a.k.a. AL-FAQIH, Sa'd), London, United Kingdom; DOB 1 Feb 1957; alt. DOB 31 Jan 1957; POB Zubair, Iraq; citizen Saudi Arabia; Passport 760620 issued 15 Sep 1991 expires 22 Jul 1996; Doctor.

6. AL-FAWAZ, Khalid Abd al-Rahman Hamd (a.k.a. AL FAWAZ, Khalid Abdulrahman H.; a.k.a. AL FAWWAZ, Khaled; a.k.a. AL FAWWAZ, Khalid; a.k.a. AL-FAUWAZ, Khaled; a.k.a. AL-FAUWAZ, Khaled A.; a.k.a. AL-FAWWAZ, Khaled; a.k.a. AL-FAWWAZ, Khalid), 55 Hawarden Hill, Brooke Road, London NW2 7BR, United Kingdom; DOB 25 Aug 1962; alt. DOB 24 Aug 1962; POB Kuwait; nationality Saudi Arabia; Passport 456682 issued 6 Nov 1990 expires 13 Sep 1995.

7. AL-MUJIL, Abd Al Hamid Sulaiman Muhammed (a.k.a. AL MOJIL, Abdulhamid Sulaiman M.; a.k.a. AL MUJAL, Dr. Abd al-Hamid; a.k.a. AL MU'JIL, Abd al-Hamid Sulaiman; a.k.a. AL-MU'AJJAL, Dr. Abd Al-Hamid; a.k.a. AL-MU'JIL, Dr. Abd Abdul-Hamid bin Sulaiman; a.k.a. MUJEL, A.S.; a.k.a. MU'JIL, Abd al-Hamid; a.k.a. “ABDALLAH, Abu”); DOB 28 Apr 1949; alt. DOB 29 Apr 1949; POB Kuwait; citizen Saudi Arabia; nationality Saudi Arabia; Passport F 137998 issued 18 Apr 2004 expires 24 Feb 2009; Doctor.

8. AL-QADI, Yasin Abdullah Ezzedine (a.k.a. KADI, Shaykh Yassin Abdullah; a.k.a. KAHDI, Yasin), Jeddah, Saudi Arabia; DOB 23 Feb 1955; POB Cairo, Egypt; nationality Saudi Arabia; Passport B 751550; alt. Passport E 976177 issued 6 Mar 2004 expires 11 Jan 2009; alt. Passport A 848526 (Saudi Arabia) expires 29 Mar 2001.

9. AL-SHARIF, Sa'd Abdullah Hussein; DOB 1969; alt. DOB 1963; alt. DOB 11 Feb 1964; POB Al-Medinah, Saudi Arabia; nationality Saudi Arabia; Passport B 960789; alt. Passport G 649385 issued 8 Sep 2006 expires 17 Jul 2011.

10. BATARJEE, Adel Abdul Jalil Ibrahim (a.k.a. AL-BATTARJEE, 'Adil; a.k.a. BATARJI, 'Adil 'Abd al Jalil; a.k.a. BATTERJEE, Adel; a.k.a. BATTERJEE, Adel Abdul Jaleel I.), 2 Helmi Kutbi Street, Jeddah, Saudi Arabia; DOB 1 Jul 1946; alt. DOB 1 Jun 1946; POB Jeddah, Saudi Arabia; citizen Saudi Arabia; Passport F 572010 issued 22 Dec 2004 expires 28 Oct 2009; E-mail: adelb@shabakah.net.sa.

11. HAMDAN, Salim Ahmad Salim (a.k.a. AL-JADAWI, Saqar; a.k.a. AL-JADDAW, Saqr); DOB 1965; POB Al-Mukalla, Yemen; Passport 00385937 (Yemen).

12. JULAIDAN, Wa'el Hamza Abd Al-Fatah (a.k.a. “ABU AL-HASAN AL MADANI”; a.k.a. JALADIN, Wa'el Hamza; a.k.a. JALADIN, Wa'il Hamza; a.k.a. JALAIDAN, Wa'el Hamza; a.k.a. JALAIDAN, Wa'il Hamza; a.k.a. JILDAN, Wail H.A.; a.k.a. JULAIDAN, Wa'il Hamza; a.k.a. JULAYDAN, Wa'el Hamza; a.k.a. JULAYDAN, Wa'il Hamza); DOB 22 Jan 1958; alt. DOB 20 Jan 1958; POB Al-Madinah, Saudi Arabia; nationality Saudi Arabia; Passport A-992535 (Saudi Arabia); alt. Passport B 524420 issued 15 Jul 1998 expires 22 May 2003.

Dated: June 1, 2007.
Adam J. Szubin,
Director, Office of Foreign Assets Control.

[FR Doc. E7-11988 Filed 6-20-07; 8:45 am]

BILLING CODE 4811-42-P